DEPARTMENT OF ENERGY

Federal Energy Regulatory Commission

[Docket No. CP00-371-000]

Northern Natural Gas Company; Notice of Application

June 2, 2000.

Take notice that on May 30, 2000, Northern Natural Gas Company (Northern), 1111 South 103rd Street, Omaha, Nebraska 68124, filed in Docket No. CP00-371-000 an application pursuant to Sections 7(b) and (c) of the Natural Gas Act for permission and approval to abandon and replace certain pipeline facilities located in Iowa, all as more fully set forth in the application on file with the Commission and open to public inspection. This filing may be viewed on the web at http://www.ferc.fed.us/online/htm (call 202-208-2222 for assistance).

Northern states that during a hot spot survey conducted in April 1999, it discovered a leak on a portion of its A-Line located under a road in Cass County, Iowa. Northern indicates that, to immediately repair the leak, it replaced approximately 199 feet of its 24-inch line with 6-inch pipe without requesting authorization under the proper regulations. Northern states instead that it listed the replacement project in its annual blanket report as a like-for-like replacement.

Northern indicates that a total of approximately 45 feet of pipe was removed from either end of the 24-inch pipe to facilitate installation of the new pipe, and that approximately 199 feet of 6-inch pipe was placed through the 24-inch line and tied into the existing 24-inch A-Line. It is asserted that the 6-inch line will have sufficient capacity to meet current maximum contract obligations. It is further asserted that the proposed abandonment and replacement will not result in any loss of service to Northern's existing customers. The cost of the proposed replacement is estimated at $84,237.

Any questions regarding the application should be directed to Keith L. Petersen, Director, Certificates and Reporting, at (402) 398-7421, Northern Natural Gas Company, P.O. Box 3330, Omaha, Nebraska 68103-0330.

Any person desiring to be heard or to make any protest with reference to said application should on or before June 23, 2000, file with the Federal Energy Regulatory Commission, 888 First Street, NE, Washington, DC 20426, a motion to intervene or a protest in accordance with the requirements of the Commission's Rules of Practice and Procedure (18 CFR 385.214 or 385.211) and the Regulations under the Natural Gas Act (18 CFR 157.10). All protests filed with the Commission will be considered by it in determining the appropriate action to be taken but will not serve to make the protestants parties to the proceeding. Any person wishing to become a party to a proceeding or to participate as a party in any hearing therein must file a motion to intervene in accordance with the Commission's Rules.

Take further notice that, pursuant to the authority contained in and subject to the jurisdiction conferred upon the Federal Energy Regulatory Commission by Sections 7 and 15 of the Natural Gas Act and the Commission's Rules of Practice and Procedure, a hearing will be held without further notice before the Commission or its designee on this application if no motion to intervene is filed within the time required herein, if the Commission on its own review of the matter finds that a grant of the certificate is required by the public convenience and necessity. If a motion for leave to intervene is timely filed, or if the Commission on its own motion believes that a formal hearing is required, further notice of such hearing will be duly given.

Under the procedure herein provided for, unless otherwise advised, it will be unnecessary for Northern to appear or be represented at the hearing.

David P. Boergers,
Secretary.

[FR Doc. 00-14393 Filed 6-7-00; 8:45 am]

BILLING CODE 6717-01-M